DEPARTMENT OF ENERGY

Federal Energy Regulatory Commission

[Docket No. RP96-129-010]

Trunkline Gas Company; Notice of Compliance Filing

March 17, 2000.

Take notice that on March 13, 2000, Trunkline Gas Company (Trunkline) tendered for filing as part of its FERC Gas Tariff, First Revised Volume No. 1, the following revised tariff sheets to be effective May 1, 2000:

Second Revised Sheet No. 205

Original Sheet No. 205A

Trunkline states that the purpose of this filing is to comply with the Commission's Order Accepting Contested Settlement and Dismissing Request for Rehearing issued on February 1, 2000 in Docket No. RP96-129-005 (Phase I Remand), RP96-129-006 and RP96-129-007, 90 FERC ¶ 61,099 (2000). In accordance with the September 16, 1999 Stipulation and Agreement in the subject proceeding, the revised tariff sheets modify the General Terms and Conditions, Section 13, Quality, to provide that Shipper or Shipper's designee may elect to receive its retrograde condensate removed at the Terrebonne liquids separation facility commencing on May 1, 2000.

Trunkline states that copies of this filing are being served on all affected customers, applicable state regulatory agencies and parties to this proceeding.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-7156 Filed 3-22-00; 8:45 am]

BILLING CODE 6717-01-M